DEPARTMENT OF DEFENSE

Defense Acquisition Regulations System

Information Collection Requirements; Defense Federal Acquisition Regulation Supplement; Small Business Programs (OMB Control Number 0704-0386)

AGENCY: Defense Acquisition Regulations System, Department of Defense (DoD).

ACTION: Notice and request for comments regarding a proposed extension of an approved information collection requirement.

SUMMARY: In compliance with section 3506(c)(2)(A) of the Paperwork Reduction Act of 1995 (44 U.S.C. chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through April 30, 2011. DoD proposes that OMB extend its approval for use for three additional years.

DATES: DoD will consider all comments received by January 11, 2011.

ADDRESSES: You may submit comments, identified by OMB Control Number 0704-0386, using any of the following methods:

○ Regulations.gov: http://www.regulations.gov. Submit comments via the Federal eRulemaking portal by inputting “OMB Control Number 0704-0386” under the heading “Enter keyword or ID” and selecting “Search.” Select the link “Submit a Comment” that corresponds with “OMB Control Number 0704-0386”. Follow the instructions provided at the “Submit a Comment” screen. Please include your name, company name (if any), and “OMB Control Number 0704-0386” on your attached document.

○ E-mail: dfars@osd.mil. Include OMB Control Number 0704-0386 in the subject line of the message.

○ Fax: (703) 602-0350.

○ Mail: Defense Acquisition Regulations System, Attn: Ms. Jennifer Abi-Najm, OUSD(AT&L)DPAP(DARS), Room 3B855, 3060 Defense Pentagon, Washington, DC 20301-3060.

Comments received generally will be posted without change to http://www.regulations.gov, including any personal information provided. To confirm receipt of your comment(s), please check http://www.regulations.gov approximately two to three days after submission to verify posting (except allow 30 days for posting of comments submitted by mail).

FOR FURTHER INFORMATION CONTACT: Ms. Jennifer Abi-Najm, 703-602-0131. The information collection requirements addressed in this notice are available electronically via the Internet at: http://www.regulations.gov. Paper copies are available from Ms. Jennifer Abi-Najm, OUSD(AT&L)DPAP(DARS), Room 3B855, 3060 Defense Pentagon, Washington, DC 20301-3060.

SUPPLEMENTARY INFORMATION: Title and OMB Number: Defense Federal Acquisition Regulation Supplement (DFARS) part 219, Small Business Programs, and the clause at DFARS 252.219-7003; OMB Control Number 0704-0386.

Needs and Uses: DoD uses this information in assessing contractor compliance with small business subcontracting plans in accordance with 10 U.S.C. 2323(h).

Affected Public: Businesses or other for-profit and not-for-profit institutions.

Annual Burden Hours: 41.

Number of Respondents: 41.

Responses per Respondent: 1.

Annual Responses: 41.

Average Burden per Response: 1 hour.

Frequency: On occasion.

Summary of Information Collection

DFARS 219.704 and paragraph (g) of the clause at DFARS 252.219-7003, Small Business Subcontracting Plan (DoD Contracts), require prime contractors to notify the administrative contracting officer of any substitutions of firms that are not small business firms for the firms listed in those subcontracting plans that specifically identify small businesses. Notifications must be in writing and may be submitted in a contractor-specified format.

Ynette R. Shelkin,
Editor, Defense Acquisition Regulations System.

[FR Doc. 2010-28495 Filed 11-10-10; 8:45 am]

BILLING CODE 5001-08-P